DEPARTMENT OF TRANSPORTATION

National Highway Traffic Safety Administration

[Docket No. NHTSA-2020-0089]

National Emergency Medical Services Advisory Council; Solicitation of Applications

AGENCY: National Highway Traffic Safety Administration (NHTSA), U.S. Department of Transportation (DOT).

ACTION: Solicitation of Nominations for Appointment to the National Emergency Medical Services Advisory Council (NEMSAC).

SUMMARY: NHTSA is soliciting applications for appointment/reappointment to the U.S. Department of Transportation's (DOT) NEMSAC. The purpose of NEMSAC is to serve as a nationally recognized council of Emergency Medical Services (EMS) representatives and consumers to provide advice and recommendations regarding EMS to DOT. Through NHTSA, NEMSAC's advice is provided to the Federal Interagency Committee on EMS (FICEMS).

DATES: Applications for membership must be received by NHTSA on or before 5 p.m. EST, January 15, 2021.

ADDRESSES: If you wish to apply for membership, your application should be submitted to:

• Email: NEMSAC@dot.gov.

• Mail: Use only overnight mail such as UPS or FedEx to: U.S. Department of Transportation, National Highway Traffic Safety Administration, Office of Emergency Medical Services, Attn: NEMSAC, 1200 New Jersey Avenue SE, NTI-140, Washington, DC 20590.

Additional information on NEMSAC, including the current roster, charter, and previous meeting minutes can be found at: https://www.ems.gov/nemsac.html.

FOR FURTHER INFORMATION CONTACT: Clary Mole, EMS Specialist, National Highway Traffic Safety Administration, U.S. Department of Transportation, Clary.Mole@dot.gov or 202-366-2795. Any committee related questions should be sent to the person listed in this section.

SUPPLEMENTARY INFORMATION: Background:

NEMSAC is an advisory council established by DOT in accordance with the provisions of the Federal Advisory Committee Act (FACA), Public Law 92-463, as amended (5 U.S.C. App.) and DOT Order 1120.3C NEMSAC provides information, advice, and recommendations to the Secretary via the Administrator of NHTSA, and through NHTSA to FICEMS on matters relating to all aspects of development and implementation of EMS.

Description of Duties:

Consistent with Sections 3 and 5, NEMSAC is authorized to:

a. Consider information on EMS issues to define, develop positions, and make recommendations on such issues for the Secretary of Transportation and/or FICEMS.

b. Provide recommendations or advice relating to EMS on such topics as:

• Improved coordination and support of EMS systems among Federal programs;

• Strategic planning;

• EMS standards, guidelines, performance benchmarks, and other guidelines;

• Guidelines for conducting needs assessments for improving community-based EMS systems at State and local levels;

• Enhancing the National EMS Information System (NEMSIS) through adoption, utilization and revision of the NEMSIS standard and supporting EMS systems with new uses of EMS data and information; and

• Strengthening EMS systems through enhanced workforce development, education, training, exercises, sustainability, equipment, medical oversight, and other areas.

c. Respond to requests for consultation and advice on EMS issues from the Secretary of Transportation (via the National Highway Traffic Safety Administration's (NHTSA) Designated Federal Officer (DFO)) and/or from FICEMS.

d. NEMSAC shall prepare an annual report to the Secretary of Transportation, with copies sent to the Secretary of Health and Human Services and Secretary of Homeland Security, and to FICEMS, regarding NEMSAC's actions and recommendations.

Membership

In accordance with the NEMSAC charter, members should represent a cross-section of the diverse agencies, organizations, and individuals involved in EMS activities and programs in the United States. NEMSAC consists of 25 members, each of whom shall be appointed by the Secretary of Transportation, in coordination with the U.S. Departments of Homeland Security and Health and Human Services through their respective representatives on FICEMS. The NEMSAC members shall collectively be representative of all sectors of the EMS community.

The NEMSAC's broad-based membership will ensure that it has sufficient EMS system expertise and geographic and demographic diversity to accurately reflect the whole EMS community.

To the extent practical, the final NEMSAC membership shall ensure representation from the following sectors of the EMS community:

• Volunteer EMS

• Fire-based (career) EMS

• Private (career non-fire) EMS

• Hospital-based EMS

• Tribal EMS

• Air Medical EMS

• Local EMS service directors/administrators

• EMS Medical Directors

• Emergency Physicians

• Trauma Surgeons

• Pediatric Emergency Physicians

• State EMS Directors

• State Highway Safety Directors

• EMS Educators

• Public Safety Call-taker/Dispatcher (911)

• EMS Data Managers

• EMS Quality Improvement

• EMS Researchers

• Emergency Nurses

• Hospital Administration

• Public Health

• Emergency Management

• EMS Practitioners

• Consumers (not directly affiliated with an EMS or healthcare organization)

• State or local legislative bodies (e.g., city/county councils; state legislatures)

Members serve in a “representative” capacity on NEMSAC and not as Special Government Employees. The Secretary of Transportation shall appoint each member for up to a 2-year term and members may be reappointed but may not serve more than two consecutive terms unless the Secretary determines that additional terms are permitted to ensure representation of all sectors of EMS. NEMSAC members will not receive pay or other compensation from NHTSA for their NEMSAC service, but are entitled to reimbursement of their travel expenses, including per diem. The NEMSAC meets in plenary session approximately three to four times per year.

Qualifications

Members will be selected for their ability to reflect a balanced representation of interests from across the EMS community, but no member will represent a specific organization.

Materials To Submit

Qualified individuals interested in serving on the NEMSAC are invited to apply for appointment by submitting a resume or CV along with letters of recommendation to one of the locations listed in the ADDRESSES section by the deadline listed in the DATES section. Each applicant must identify the EMS sector or discipline that he or she seeks to represent. Current NEMSAC members whose terms are ending should notify the person listed in the FOR FURTHER INFORMATION CONTACT section of their interest in reappointment in lieu of submitting a new application, and should provide an updated resume or CV and a restatement of the current sector they represent by the deadline. Nominations are open to all individuals without regard to race, color, religion, sex, national origin, age, mental or physical disability, marital status, or sexual orientation. Evaluations will be based on the materials submitted.

Authority: 42 U.S.C. 300d-4(b); 49 CFR 1.95(i)(4).

Issued in Washington, DC.
Nanda Narayanan Srinivasan,
Associate Administrator, Research and Program Development.

[FR Doc. 2020-27942 Filed 12-17-20; 8:45 am]

BILLING CODE 4910-59-P